SECURITIES AND EXCHANGE COMMISSION

[Release No. 34-94073; File No. SR-CBOE-2021-075]

Self-Regulatory Organizations; Cboe Exchange, Inc.; Notice of Withdrawal of a Proposed Rule Change To Increase Position Limits for Options on the SPDR Gold Trust and iShares Silver Trust

January 26, 2022.

On December 7, 2021, Cboe Exchange, Inc. (“Exchange”) filed with the Securities and Exchange Commission (“Commission”), pursuant to Section 19(b)(1) of the Securities Exchange Act of 1934 (“Act”) ¹ and Rule 19b-4 thereunder,² a proposed rule change to increase position limits for options on the SPDR Gold Trust and iShares Silver Trust. The proposed rule change was published for comment in the Federal Register on December 27, 2021.³ On January 24, 2022, the Exchange withdrew the proposed rule change (SR-CBOE-2021-075).

¹ 15 U.S.C. 78s(b)(1).

² 17 CFR 240.19b-4.

³ See Securities Exchange Act Release No. 93831 (December 20, 2021), 86 FR 73353.

For the Commission, by the Division of Trading and Markets, pursuant to delegated authority.⁴
⁴ 17 CFR 200.30-3(a)(12).
J. Matthew DeLesDernier,
Assistant Secretary.

[FR Doc. 2022-01971 Filed 1-31-22; 8:45 am]

BILLING CODE 8011-01-P